DEPARTMENT OF TRANSPORTATION

Federal Aviation Administration

Notice of Final Action of Waiver With Respect to Land; Coleman A. Young Municipal Airport, Detroit, MI

AGENCY: Federal Aviation Administration (FAA), DOT.

ACTION: Notice.

SUMMARY: The FAA is providing notice of a release of Federal obligations for one land parcel at Coleman A. Young Municipal Airport, Detroit, Michigan.

FOR FURTHER INFORMATION CONTACT: Georgina McDonald, Program Manager, Federal Aviation Administration, Detroit Airports District Office, 11677 S Wayne Rd., Romulus, MI 48174-1412. Telephone Number: (734) 229-2900/FAX Number: (734) 229-2950.

SUPPLEMENTARY INFORMATION: The City of Detroit, Airport Sponsor of the Coleman A. Young Municipal Airport has requested a release of all FAA obligations for 34.21 acres of property that was previously owned by the airport. The subject parcel, identified as Parcel 16, was included in a property exchange brokered by the City of Detroit and disposed of without FAA authorization in 2019.

Parcel 16 was acquired by the Airport Sponsor on September 19, 1993 and was funded in part under Federal Airport Improvement Program (AIP) Grant numbers 3-26-0027-1089 in June 1994 and 3-26-0027-0888 in June 1997. On June 26, 2001, the FAA released the obligations on 23.00 acres of the 34.21-acre Parcel 16 to be leased for industrial development. The remaining 11.21 acres of Parcel 16 is located west of French Road, outside the airport operation area fence and is not needed for aeronautical purposes. It is entirely paved and its existing and proposed future use is for commercial vehicle parking. The FAA has confirmed that the Airport Sponsor has received fair market value for the sale of Parcel 16.

The FAA has confirmed the disposition of proceeds from the sale of the airport property were in accordance with 49 U.S.C. 47107(c)(2)(B) and FAA's Policy and Procedures Concerning the Use of Airport Revenue, published in the Federal Register on February 16, 1999 (64 FR 7696).

In accordance with section 125 of The Wendell H. Ford Aviation Investment and Reform Act for the 21st Century (AIR-21) the FAA is providing notice that the FAA is releasing the subject airport property described below at the Coleman A. Young Municipal Airport, Detroit, Michigan, from federal obligations.

The subject property is described as: All that part of Fractional Section 5, T.1 S., R. 12E., City of Detroit, Wayne County, Michigan, described as part of Lots 2 and 7, all of lots 3, 4, 5 and 6 of Engel's Subdivision as recorded in Liber 11 of Plats, Page 73, Wayne County Records, also lots 154 through 197, both inclusive, except for the North 12′ thereof of Bolton Subdivision as recorded in Liber 37 of Plats, Page 36, Wayne County Records, also Lots 237 through 249, both inclusive, except for the North 12′ thereof of Bolton No. 1 Subdivision as recorded in Liber 39 of Plats, Page 29, Wayne County Records, also Lot 16 of Leander Rivard Farm Subdivision as recorded in Liber 28 of Plats, Page 4, Wayne County, Michigan, also all that part of vacated Molena Ave., 30 ft. wide, lying adjacent to and Southerly of said Lots 154 through 197, and Lots 237-249, vacated Gilbo Ave., 50 ft. wide, lying adjacent to and between said Lots 175 and 176, and the vacated Public Alley adjacent to said Lot 16, being more particularly described as: Beginning at the intersection of the Southerly line of Molena Ave., 30 ft. wide, with the Westerly Line of French Road, 36 ft. wide; thence S 35°48′23″ E. 66.97 ft. along the Westerly Line of said French Road; thence S 63°34′25″ W. 1,000.00 ft.; thence S 26°04′30″ E. 325.79 ft.; thence S 38°16′30″ W, 114.92 ft.; thence 206.23 ft. along the arc of a curve to the right having a radius of 446.34 ft., chord bearing and distance of S 50°56′38″ W. 204.55 ft.; thence S 26°21′30″ E. 22.00 ft.; thence S 63°38′30″ W. 1,444.27 ft. along the Northerly Line of Madola Ave., 50 ft. wide; thence N 26°10′30″ W. 353.43 ft.; thence N 63°31′20″ E. 410.29 ft.; thence N 27°20′38 W. 159.12 ft.; thence N 34°47′45″ W. 182.05 ft.; thence N 63°43′15″ E. 1,043.73 ft.; thence N 59°10′42″ E. 50.00 ft.; thence N 63°43′15″ E. 690.96 ft.; thence N 30°14′46″ W. 418.41 ft.; thence N 63°52′55″ E. 299.58 ft. along the Southerly Line of Leander Ave., 50 ft. wide; thence the following two courses and distances alone the Westerly line of said French Rd.: S 33°05′35″ E. 413.10 ft.; and S 35°48′23″ E. 194.85 ft. to the point of beginning.

This release does not constitute a commitment by the FAA to financially assist in the disposal of the subject airport property nor a determination of eligibility for grant-in-aid funding from the FAA.

Issued in Romulus, Michigan, on December 19, 2023.
Stephanie R. Swann,
Deputy Manager, Detroit Airports District Office, FAA, Great Lakes Region.

[FR Doc. 2023-28322 Filed 12-22-23; 8:45 am]

BILLING CODE 4910-13-P